DEPARTMENT OF THE INTERIOR

National Park Service

Notice of Inventory Completion: Peabody Museum of Archaeology and Ethnology, Harvard University, Cambridge, MA; Correction

AGENCY: National Park Service, Interior.

ACTION: Notice; correction.

Notice is here given in accordance with the Native American Graves Protection and Repatriation Act (NAGPRA), 25 U.S.C. 3003, of the completion of an inventory of human remains and associated funerary objects in the possession of the Peabody Museum of Archaeology and Ethnology, Harvard University, Cambridge, MA. The human remains and associated funerary objects were removed from Barnstable, Bristol, Dukes, and Plymouth Counties, MA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals, the list of culturally affiliated groups, and the name of a donor reported in a previous Notice of Inventory Completion published in the Federal Register (68 FR 48626-48634, August 14, 2003) and a published correction Notice of Inventory Completion (71 FR 70979-70980, December 7, 2006). The correction Notice of December 7, 2006, changed the number of associated funerary objects listed in the original Notice of August 14, 2003. Some of the human remains and associated funerary objects described in the above notices have since been repatriated. However, the human remains from the site described in this correction are still in the possession of the Peabody Museum.

Since the publication of the original and correction Notice, one of the nonfederally recognized Indian groups has become a Federally-recognized Indian tribe. Therefore, throughout the Notices of August 14, 2003 and December 7, 2006 in the Federal Register, “Mashpee Wampanoag Indian Tribe (a nonfederally recognized Indian group)” is corrected by substituting “Mashpee Wampanoag Tribe, Massachusetts.” In addition, throughout each Notice the “cultural relationship” between the human remains and associated funerary objects and the Mashpee Wampanoag Tribe stated in the previous notices is replaced by a “relationship of shared group identity.”

Through a reassessment of human remains from Hingham, Plymouth County, MA, museum osteologists were able to re-associate elements of human remains and the current minimum number of individuals has decreased from the previously reported eight to five. In addition, the donor's name is more accurately stated below as the Hingham Board of Health rather than Mayo Tolman as listed in the original notice of August 14, 2003.

In the Federal Register of August 14, 2003, page number 48631, paragraph numbers 3 and 4 are corrected by substituting the following paragraphs:

In 1932, human remains representing five individuals were removed from a construction site in Hingham, Plymouth County, MA, by an unknown collector and were donated to the Peabody Museum of Archaeology and Ethnology by the Hingham Board of Health through Secretary Mayo Tolman in the same year. No known individuals were identified. No associated funerary objects are present.

Contextual information suggests that these individuals are likely Native American. The interment most likely dates to the Historic/Contact period (post-A.D. 1500). The pattern of copper stains on the human remains suggests that the human remains were interred some time after contact. Oral tradition and historical documentation indicates that Hingham, MA, is within the aboriginal and historic homeland of the Wampanoag Nation. The present-day tribes that are most closely affiliated with members of the Wampanoag Nation are the Mashpee Wampanoag Tribe, Massachusetts; Wampanoag Tribe of Gay Head (Aquinnah) of Massachusetts; and the Assonet Band of the Wampanoag Nation (a nonfederally recognized Indian group).

In the Federal Register of December 7, 2006, page number 70980, paragraph number 2 is corrected by substituting the following paragraphs:

Officials of the Peabody Museum of Archaeology and Ethnology have determined that, pursuant to 25 U.S.C. 3001(9), the human remains described above represent the physical remains of 235 individuals of Native American ancestry. Officials of the Peabody Museum of Archaeology and Ethnology also have determined that, pursuant to 25 U.S.C. 3001(3)(A), the 113 objects described above are reasonably believed to have been placed with or near individual human remains at the time of death or later as part of the death rite or ceremony. Lastly, officials of the Peabody Museum of Archaeology and Ethnology have determined that, pursuant to 25 U.S.C. 3001(2), there is a relationship of shared group identity that can be reasonably traced between the Native American human remains and associated funerary objects and the Mashpee Wampanoag Tribe, Massachusetts; and the Wampanoag Tribe of Gay Head (Aquinnah) of Massachusetts; and that there is a cultural relationship between the human remains and associated funerary objects and the Assonet Band of the Wampanoag Nation (a nonfederally recognized Indian group).

Representatives of any other Indian tribe that believes itself to be culturally affiliated with the human remains and associated funerary objects should contact Patricia Capone, Repatriation Coordinator, Peabody Museum of Archaeology and Ethnology, Harvard University, 11 Divinity Ave., Cambridge, MA 02138, telephone (617) 496-3702, before July 12, 2010. Repatriation of the human remains and associated funerary objects to the Mashpee Wampanoag Tribe, Massachusetts; Wampanoag Tribe of Gay Head (Aquinnah) of Massachusetts; and the Assonet Band of the Wampanoag Nation (a nonfederally recognized Indian group) may proceed after that date if no additional claimants come forward.

Peabody Museum of Archaeology and Ethnology is responsible for notifying the Mashpee Wampanoag Tribe, Massachusetts; Wampanoag Tribe of Gay Head (Aquinnah) of Massachusetts; and the Assonet Band of the Wampanoag Nation (a nonfederally recognized Indian group) that this notice has been published.

Dated: May 4, 2010
Sherry Hutt,
Manager, National NAGPRA Program.

[FR Doc. 2010-14043 Filed 6-10-10; 8:45 am]

BILLING CODE 4312-50-S